DEPARTMENT OF THE TREASURY

Internal Revenue Service

Internal Revenue Service Advisory Council; Meeting

AGENCY: Internal Revenue Service, Department of Treasury.

ACTION: Notice of meeting.

SUMMARY: The Internal Revenue Service Advisory Council (IRSAC) will hold a public meeting on Thursday, November 15, 2018.

FOR FURTHER INFORMATION CONTACT: Ms. Anna Millikan, National Public Liaison, CL:NPL:P, Rm. 7559, 1111 Constitution Avenue NW, Washington, DC 20224. Phone: 202-317-6851 (not a toll-free number). Email address: PublicLiaison@irs.gov.

SUPPLEMENTARY INFORMATION: Notice is hereby given pursuant to section 10(a) (2) of the Federal Advisory Committee Act, 5 U.S.C. App. (1988), a public meeting of the IRSAC will be held on Thursday, November 15, 2018, from 9:10 a.m. to 12:30 p.m. at the Melrose Georgetown Hotel, 2430 Pennsylvania Ave NW, Potomac III, Washington, DC 20037. Issues to be discussed include, but are not limited to: The Critical Need to Provide the IRS with Adequate and Reliable Funds; Improving the Free File Program by Increasing IRS Oversight and Restructuring the MOU; Statutory Authority of the IRS to Establish and Enforce Minimum Standards of Competence for all Tax Practitioners, Including Tax Return Preparers; Improving Real-Time IRS Communications During Exigent Circumstances and Streamlining Regular IRS Communications; Third-Party Authentication; Taxpayer Digital Correspondence (TDC) Pilot; eA3 rule (Authentication, Authorization, and Access); Application Program Interface (API) Integration Strategy; Tax Pro Account; Transfer Pricing Documentation; Use of New Country-by-Country (CbC) Reports for Transfer Pricing Risk Assessment; The Office of Professional Responsibility Should Publish Disciplinary Actions, with No Taxpayer or Preparer Information; Updating Circular 230, Due Diligence—Cyber Technology, and The Future of the IRSAC. Last-minute agenda changes may preclude advanced notice. The meeting room accommodates approximately 50 people; this number includes IRSAC members and Internal Revenue Service officials. Due to limited seating, please call Tina Briscoe at 202-317-6535 to confirm your attendance. Attendees are encouraged to arrive at least 30 minutes before the meeting begins. Should you wish the IRSAC to consider a written statement, please write to Internal Revenue Service, Office of National Public Liaison, CL:NPL, Room 7559, 1111 Constitution Avenue NW, Washington, DC 20224 or email PublicLiaison@irs.gov.

Dated: October 18, 2018.
John Lipold,
Chief, Relationship Management & Tax Forums.

[FR Doc. 2018-23537 Filed 10-26-18; 8:45 am]

BILLING CODE 4830-01-P